DEPARTMENT OF ENERGY

Federal Energy Regulatory Commission

[Project No. 6896-079]

Hypower, Inc.; Hypower, LLC; Notice of Application of Transfer of License and Soliciting Comments, Motions To Intervene, and Protests

On August 11, 2023, Hypower, Inc., (transferor) filed an application for a transfer of license of the 14.5-megawatt Forks of Butte Project No. 6896.¹ The project is located on Butte Creek, near the towns of Paradise and Magalia, in Butte County, California. The project occupies federal lands administered by the Bureau of Land Management.

¹ Energy Growth Group, Butte Creek, Improvement Company, Energy Growth Partnership, and County of Butter, 37 FERC ¶ 62,276 (1986). Subsequently, on July 1, 1998, the project was transferred to Hypower, Inc.

The applicant seeks Commission approval to convert the license for the Forks of Butte Project from Hypower, Inc., to a limited liability company (Hypower, LLC or transferee). The transferee will be required by the Commission to comply with all the requirements of the license as though it were the original licensee.

Applicant Contact: Wayne Rogers, Hypower, Inc., c/o Synergics Energy Services, LLC, 191 Main Street # 3, Annapolis, MD 21401, Phone: 410-268-8820, Email: wrogers@synergics.com; and

Shannon E. O'Neil, Derek D. Green, Davis Wright Tremaine LLP, Suite 500 East, 1301 K Street NW, Washington, DC 20005-3317, Phone: 202-973-4209, and 503-778-5264, Email: shannononeil@dwt.com and derekgreen@dwt.com.

FERC Contact: Anumzziatta Purchiaroni, Phone: (202) 502-6191, Email: Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-6896-079. Comments emailed to Commission staff are not considered part of the Commission record.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 6, 2023.
Kimberly D. Bose,
Secretary.

[FR Doc. 2023-19654 Filed 9-11-23; 8:45 am]

BILLING CODE 6717-01-P